COMMERCE DEPARTMENT

Industry and Security Bureau

15 CFR Part 738

Commerce Control List Overview and the Country Chart

CFR Correction

In Title 15 of the Code of Federal Regulations, Parts 300 to 799, revised as of January 1, 2008, in part 738, in Supplement No. 1, on page 244, an “X” is added in the entry for Tonga under the heading CC3.

[FR Doc. 08-55506 Filed 3-18-08; 8:45 am]

BILLING CODE 1505-01-D